DEPARTMENT OF ENERGY

Federal Energy Regulatory Commission

[Project No. 14795-000]

Notice of Preliminary Permit Application Accepted for Filing and Soliciting Comments, Motions To Intervene, and Competing Applications; Shell Energy North America (US), L.P.

On July 26, 2016, Shell Energy North America (US), L.P., filed an application for a preliminary permit, pursuant to section 4(f) of the Federal Power Act, proposing to study the feasibility of the Hydro Battery Pearl Hill Project (Pearl Hill Project or project) to be located on the Columbia River and Rufus Woods Lake, near Bridgeport, Douglas County, Washington. The sole purpose of a preliminary permit, if issued, is to grant the permit holder priority to file a license application during the permit term. A preliminary permit does not authorize the permit holder to perform any land-disturbing activities or otherwise enter upon lands or waters owned by others without the owners' express permission.

The proposed pumped storage project would consist of the following: (1) 215-foot-diameter, 40-foot-high corrugated steel tank (upper reservoir) having a total storage capacity of 29 acre-feet and a usable capacity of 26.7 acre-feet; (2) 6,025-foot-long, 36-inch-diameter steel and high density polyethylene penstock extending between the upper reservoir and the pump/turbines below; (3) 400-foot-long, 100-foot-wide, 40-foot-deep polyurea membrane stretched over a framed plastic structure (lower reservoir) having a total storage capacity of 29 acre-feet and a usable capacity of 26.7 acre-feet; (4) 80-foot-long, 50-foot-wide pontoon barge floating on Rufus Woods Lake containing: Two Pelton turbine-motor/generator units rated for 2.5 megawatts each at 1,310 feet of net head; up to 8 pumps; and a substation; (5) an overhead 2,500-foot-long, 24.9-kilovolt transmission line extending from the project substation to an existing distribution line owned by Douglas County Public Utility District (the point of interconnection); and (6) appurtenant facilities. The estimated annual generation of the Pearl Hill Project would be 10.9 gigawatt-hours.

Applicant Contact: Mr. Brian Johansen, Vice President Power Trading West, Shell Energy North America (US), L.P., 601 W. 1st Ave., Suite 1700, Spokane, Washington 99201; phone: (509) 688-6000.

FERC Contact: Ryan Hansen, email: ryan.hansen@ferc.gov; phone: (202) 502-8074.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14795-000.

More information about this project, including a copy of the application, can be viewed or printed on the “eLibrary” link of Commission's Web site at http://www.ferc.gov/docs-filing/elibrary.asp. Enter the docket number (P-14795) in the docket number field to access the document. For assistance, contact FERC Online Support.

Dated: August 4, 2016.
Nathaniel J. Davis, Sr.,
Deputy Secretary.

[FR Doc. 2016-19070 Filed 8-10-16; 8:45 am]

BILLING CODE 6717-01-P